DEPARTMENT OF HEALTH AND HUMAN SERVICES

National Institutes of Health

National Institute of Mental Health; Amended Notice of Meeting

Notice is hereby given of a change in the meeting of the National Institute of Mental Health Special Emphasis Panel, April 2, 2009, 8 a.m. to April 2, 2009, 5 p.m., Westin Embassy Row, 2100 Massachusetts Ave., NW., Washington, DC 20008 which was published in the Federal Register on February 12, 2009, 74 FR 7071.

The meeting will be held on the same date and times, but will now be held at The Topaz Hotel, 1733 N St., NW., Washington, DC 20036. The meeting is closed to the public.

Dated: February 18, 2009.
Jennifer Spaeth,
Director, Office of Federal Advisory Committee Policy.

[FR Doc. E9-3948 Filed 2-23-09; 8:45 am]

BILLING CODE 4150-28-P